DEPARTMENT OF TRANSPORTATION

Federal Aviation Administration

[Summary Notice No. PE-2001-69]

Petitions for Exemption; Summary of Dispositions of Petitions Issued

AGENCY: Federal Aviation Administration (FAA), DOT.

ACTION: Notice of dispositions of prior petitions.

SUMMARY: Pursuant to FAA's rulemaking provisions governing the application, processing, and disposition of petitions for exemption part 11 of title 14, Code of Federal Regulations (14 CFR), this notice contains a summary of dispositions of certain petitions previously received. The purpose of this notice is to improve the public's awareness of, and participation in, this aspect of FAA's regulatory activities. Neither publication of this notice nor the inclusion or omission of information in the summary is intended to affect the legal status of any petition or its final disposition.

FOR FURTHER INFORMATION CONTACT: Forest Rawls (202) 267-8033, Sandy Buchanan-Sumter (202) 267-7271, or Vanessa Wilkins (202) 267-8029, Office of Rulemaking (ARM-1), Federal Aviation Administration, 800 Independence Avenue, SW., Washington, DC 20591.

This notice is published pursuant to 14 CFR 11.85 and 11.91.

Issued in Washington, DC, on September 18, 2001.
Richard McCurdy,
Acting, Assistant Chief Counsel for Regulations.

Dispositions of Petitions

Docket No.: FAA-2001-10203.

Petitioner: Hageland Aviation Services, Inc.

Section of 14 CFR Affected: 14 CFR #43.3(g).

Description of Relief Sought/Disposition: To permit Hageland's pilots to update KLN 89B, 90B, and GX 60 global positioning system (GPS) equipment in its aircraft operating under 14 CFR part 135. Denial, 08/27/2001, Exemption No. 7613.

Docket No.: FAA-2001-9774 (previous Docket No. 28708).

Petitioner: Empire Airlines, Inc.

Section of 14 CFR Affected: 14 CFR 43.9 and 121.709(b)(3).

Description of Relief Sought/Disposition: To permit Empire to use electronic signatures in lieu of physical signatures to satisfy airworthiness release or aircraft log entry signature requirements of § 43.9 for operation conducted under 14 CFR part 135 and § 121.709(b)(3) for operations conducted under part 121. Grant, 08/30/2001, Exemption No. 6668B.

Docket No.: FAA-2001-9896.

Petitioner: Midwest Express Airlines, Inc.

Section of 14 CFR Affected: 14 CFR 145.45(f).

Description of Relief Sought/Disposition: To allow Midwest Express to place copies of its Inspection Procedures Manual (IPM) in a central location and assign copies of the IPM to certain individuals rather than giving a copy to each of its supervisory and inspection personnel. Grant, 08/20/2001, Exemption No. 7610.

Docket No.: FAA-2001-10436.

Petitioner: Angel Flight of Georgia.

Section of 14 CFR Affected: 14 CFR 135.251, 135.255, 135.353, and appendixes I and J to part 121.

Description of Relief Sought/Disposition: To permit Angel Flight to conduct local sightseeing flights at the Dekalb Peachtree Airport for the annual Angel flight Fly Around Town fundraiser during September 2001, for compensation or hire, without complying with certain anti-drug and alcohol misuse prevention requirements of part 135. Grant, 09/07/2001, Exemption No. 7619.

Docket No.: FAA-2001-10277.

Petitioner: Denmark Volunteer Fire Department (DVFD).

Section of 14 CFR Affected: 14 CFR 135.251, 135.255, 135.353, and appendixes I and J to part 121.

Description of Relief Sought/Disposition: To permit DVFD to conduct local sightseeing flights at Eastern Slopes Regional Airport, Fryeburg, Maine, for their annual event during September 2001, for compensation or hire, without complying with certain anti-drug and alcohol misuse prevention requirements of part 135. Grant, 09/10/2001, Exemption No. 7618.

Docket No.: FAA-2001-9435 (previously Docket No. 29756).

Petitioner: ExecuJet Charter Service, Inc.

Section of 14 CFR Affected: 14 CFR 135.143(c)(2).

Description of Relief Sought/Disposition: To permit ExecuJet to operate its Hawker Model DH 125-400A aircraft (registration No. N810HS, serial No. 25271) under part 135 without a TSO-C112 (Mode S) transponder installed in the aircraft. Grant, 08/29/2001, Exemption No. 7064A.

[FR Doc. 01-23777 Filed 9-21-01; 8:45 am]

BILLING CODE 4910-13-M